DEPARTMENT OF THE INTERIOR

National Park Service

[NPS-WASO-NAGPRA-11264; 2200-1100-665]

Native American Graves Protection and Repatriation Review Committee: Notice of Nomination Solicitation

AGENCY: National Park Service, Interior.

ACTION: Notice of Nomination Solicitation.

SUMMARY: The National Park Service is soliciting nominations for one member of the Native American Graves Protection and Repatriation Review Committee. The Secretary of the Interior will appoint the member from nominations submitted by national museum organizations and national scientific organizations. Nominations must include the following information:

1. The nominator must be the official authorized by the organization to submit nominations in response to this solicitation. The nomination must include a statement that the nominator is so authorized on behalf of the identified national museum or scientific organization.

2. A nomination must include the following information:

a. The nominee's name, postal address, daytime telephone number, and email address; and

b. the nominee's resume or brief biography emphasizing the nominee's NAGPRA experience and ability to work effectively as a member of an advisory board.

DATES: Nominations must be received by January 24, 2013.

ADDRESSES: Sherry Hutt, Designated Federal Officer, Native American Graves Protection and Repatriation Review Committee, National NAGPRA Program, National Park Service, 1201 Eye Street NW., 8th Floor (2253), Washington, DC 20005.

SUPPLEMENTARY INFORMATION: 1. The Review Committee was established by the Native American Graves Protection and Repatriation Act of 1990 (NAGPRA), at 25 U.S.C. 3006.

2. The Review Committee is responsible for:

a. Monitoring the NAGPRA inventory and identification process;

b. Reviewing and making findings related to the identity or cultural affiliation of cultural items, or the return of such items;

c. Facilitating the resolution of disputes;

d. Compiling an inventory of culturally unidentifiable human remains and developing a process for disposition of such remains;

e. Consulting with Indian tribes and Native Hawaiian organizations and museums on matters within the scope of the work of the Review Committee affecting such tribes or organizations;

f. Consulting with the Secretary of the Interior in the development of regulations to carry out NAGPRA; and

g. Making recommendations regarding future care of repatriated cultural items.

3. Seven members compose the Review Committee. All members are appointed by the Secretary of the Interior. The Secretary may not appoint Federal officers or employees to the Review Committee.

a. Three members are appointed from nominations submitted by Indian tribes, Native Hawaiian organizations, and traditional Native American religious leaders. At least two of these members must be traditional Indian religious leaders.

b. Three members are appointed from nominations submitted by national museum or scientific organizations.

c. One member is appointed from a list of persons developed and consented to by all of the other members.

4. Members serve as Special Governmental Employees, which requires submission of annual financial disclosure reports and completion of annual ethics training.

5. Appointment terms: Members are appointed for 4-year terms and incumbent members may be reappointed for 2-year terms.

6. The Review Committee's work is completed during public meetings. The Review Committee normally meets face-to-face two times per year, and each meeting is normally two or three days. The Review Committee may also hold one or more public teleconferences of several hours duration.

7. Compensation: Review Committee members are compensated for their participation in Review Committee meetings.

8. Reimbursement: Review Committee members are reimbursed for travel expenses incurred in association with Review Committee meetings.

9. Additional information regarding the Review Committee, including the Review Committee's charter, meeting protocol, and dispute resolution procedures, is available on the National NAGPRA Program Web site, at www.nps.gov/NAGPRA/REVIEW/.

10. The terms “Indian tribe,” and “Native Hawaiian organization,” are defined in statute at 25 U.S.C. 3001(7) and (11). Indian tribe means any tribe, band, nation, or other organized group or community of Indians, including any Alaska Native Village, which is recognized as eligible for the special programs and services provided by the United States to Indians because of their status as Indians. Native Hawaiian organization means any organization which serves and represents the interests of Native Hawaiians; has as a primary stated purpose the provision of services to Native Hawaiians; and has expertise in Native Hawaiian affairs. Native Hawaiian organization includes the Office of Hawaiian Affairs and Hui Malama I Na Kupuna O Hawai'i Nei. “Traditional religious leader” of a tribe is not defined in statute, but is defined in regulation at 43 CFR 10.2(d)(3).

11. “National museum organizations” and “national scientific organizations” are not defined in the statute or regulations.

FOR FURTHER INFORMATION CONTACT: Sherry Hutt, Designated Federal Officer, Native American Graves Protection and Repatriation Review Committee, National NAGPRA Program, National Park Service, 1201 Eye Street NW., 8th Floor (2253), Washington, DC 20005, telephone (202) 354-1479, email sherry_hutt@nps.gov.

Dated: September 12, 2012.
Sherry Hutt,
Designated Federal Officer, Native American Graves Protection and Repatriation Review Committee.

[FR Doc. 2012-26320 Filed 10-25-12; 8:45 am]

BILLING CODE 4312-50-P